DEPARTMENT OF ENERGY

Federal Energy Regulatory Commission

[Project No. 14345-001]

Rock River Beach, Inc.; Notice of Application Accepted for Filing With the Commission; Intent To Waive Scoping; Soliciting Motions To Intervene and Protests; Ready for Environmental Analysis; and Soliciting Comments, Terms and Conditions, Recommendations, and Prescriptions

Take notice that the following hydroelectric application has been filed with the Commission and is available for public inspection.

a. Type of Application: Original Minor License.

b. Project No.: 14345-001.

c. Date filed: November 23, 2012.

d. Applicant: Rock River Beach, Inc.

e. Name of Project: Rock River Beach Hydroelectric Project

f. Location: On the Rock River, in the Town of Onota, Alger County, Michigan. The project would not occupy any federal lands.

g. Filed Pursuant to: Federal Power Act, 16 U.S.C. 791(a)-825(r).

h. Applicant Contact: Mary C. Edgar, 2617 Rockwood, East Lansing, MI 48823; or by telephone at (906) 892-8112.

i. FERC Contact: Aaron Liberty at (202) 502-6862 or by email at Aaron. Liberty@ferc.gov.

j. Deadline for filing motions to intervene and protests, requests for cooperating agency status, comments, terms and conditions, recommendations, and prescriptions: 60 days from the issuance date of this notice; reply comments are due 105 days from the issuance date of this notice.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The Rock River Beach Project consists of the following existing facilities: (1) A 33.6-foot-long by 5.5-foot-high, L-shaped gravity dam with a crest elevation of 606.95 feet North American Vertical Datum of 1988 (NAVD 88) that impounds a 5-acre reservoir with a total storage capacity of 25 acre-feet; (2) an 8-foot-wide spillway containing two steel sluice gates, a 24-inch-high bottom gate that remains fixed in place and a 36-inch-high slide gate that is raised and lowered manually; (3) a 30-foot-wide by 50-foot-long power canal; (4) an 18-foot by 24-foot wood-framed powerhouse housing a 3-kilowatt (kW) generating unit run by a water wheel and a 5-kW generating unit run by a 24-inch vertical-shaft propeller turbine for a total installed capacity of 8 kW; and (5) two, 220-volt, 0.5-mile-long transmission lines. The powerhouse also contains a 6-kW antique Edison generator that operates via the water wheel and is operated once a year.

The applicant operates the project in a run-of-river mode (i.e., at any point in time, the combined outflow from the project's dam and powerhouse approximates all inflows to the project's reservoir). The project operates from June 20 through September 15, and October 15 through November 15. At all other times, the reservoir is drawn down approximately 4 feet with the fixed sluice gate maintaining an 18 to 24-inch head to prevent the upstream migration of sea lamprey from Lake Superior. Diversion of river flow through the 50-foot-long power canal and to the powerhouse creates a 100-foot-long bypassed reach in the Rock River. Average annual generation at the project varies between 9,000 and 18,000 kilowatt-hours.

All of the existing project facilities are owned by the applicant. The applicant proposes no new facilities or changes to existing project operations.

m. Due to the projects works already existing and the applicant's close coordination with federal and state agencies during the preparation of the application, we intend to waive scoping. Based on a review of the application and resource agency consultation letters, Commission staff intends to prepare a single environmental assessment (EA). Commission staff has determined that the issues that need to be addressed in its EA have been adequately identified during the pre-filing period, which included a public meeting and site visit, and no new issues are likely to be identified through additional scoping. The EA will consider assessing the potential effects of project operation on geology and soils, aquatic, terrestrial, threatened and endangered species, recreation and land use, aesthetic, and cultural and historic resources.

n. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

o. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must: (1) Bear in all capital letters the title “PROTEST”, “MOTION TO INTERVENE”, “NOTICE OF INTENT TO FILE COMPETING APPLICATION,” “COMPETING APPLICATION,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

p. Procedural schedule: The application will be processed according to the following procedural schedule. Revisions to the schedule may be made as appropriate.

Milestone | Target date
Comments, recommendations, and terms and conditions due | September 2013.
Reply comments due | November 2013.
Notice of the availability of the EA | February 2014.

Dated: July 31, 2013.
Kimberly D. Bose,
Secretary.

[FR Doc. 2013-18994 Filed 8-6-13; 8:45 am]

BILLING CODE 6717-01-P